FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. Chapter 409 and 46 CFR part 515).

Persons knowing of any reason why the following applicants should not receive a license are requested to contact the Office of Transportation Intermediaries, Federal Maritime Commission, Washington, DC 20573.

Non-Vessel Operating Common Carrier Ocean Transportation Intermediary Applicants

The 0123 Van Lines, Inc., 501 Penhorn Ave., Unit 2, Secaucus, NJ 07094. Officer: Shinichi Hada, Secretary (Qualifying Individual).

Streamline Trade Management Inc. dba Teamwork Logistic, 177-25 Rockaway Blvd., Jamaica, NY 11434, Officer: Hsin-Hsuan Chen, President (Qualifying Individual).

CNC Worldwide, Inc., 5343 N. Imperial Hwy., Ste. 300, Los Angeles, CA 90045, Officers: Zaskia M. Barahona, Secretary (Qualifying Individual), Henry Kim, President.

Hermes Logistics, Inc., 17588 E. Rowland, #A136, City of Industry, CA 91748, Officer: Zhengqi Qian aka Jason Chien, President (Qualifying Individual).

Miami Envios Express Inc., 7468 SW 117th Ave., Miami, FL 33183. Officer: Mauricio Perez, President (Qualifying Individual).

JTS Freight Systems, LLC, 81 Belvidere Rd., Glen Rock, NJ 07452. Officer: Frank Savino, President (Qualifying Individual).

Kenny Logistics Co. dba Kenny International USA Inc., 1835 S. Nordic Rd., Mount Prospect, IL 60056. Officer: Jong Chang Song, President (Qualifying Individual).

ABC Trucking and Logistics, LLC, 3130 Locke Drive, Atlanta, GA 30315. Officers: Anthony C. Ogbodo, Manager, Cyril O. Nwanjoku, Manager (Qualifying Individuals).

Jam'n International Cargo, Inc., 2140 E. University Drive, Rancho Dominguez, CA 90220. Officers: Brian Rock, Vice President (Qualifying Individual), John Watkins, President.

Non-Vessel Operating Common Carrier and Ocean Freight Forwarder Transportation Intermediary Applicants

PAL Shipping Lines, Inc. dba Pro Ag Logistics, LLC, 12588 318th Ave., Princeton, MN 55371. Officer: Scott A. Frame, President (Qualifying Individual).

Avanti Transport Services, Incorporated, 9133 S. La Cienega Blvd, #220, Inglewood, CA 90301. Officers: Morris C. Palana, President, (Qualifying Individual), Erica Jo Formoso Plana, Secretary.

Hyundai Shipping USA Inc., 277 E. Redondo Beach Blvd., Gardena, CA 90248. Officers: Lufina Kim, Secretary (Qualifying Individual), Myeong H. Cho, President.

Allround Logistics Inc. dba Allround Maritime Services, 1809 Fashion Court, Joppa, MD 21085. Officer: Roland Meier, President (Qualifying Individual).

Sesame Auto, 780 N. Euclid Street, #204A, Anaheim, CA 92801, Ahmed Alhussaini, Sole Proprietor.

Caribbean Cargo Agencies, Inc. dba Interline Connections, 8240 zmE 52 Terrace, Miami, FL 33166. Officer: Lilia F. Dorticos, President (Qualifying Individual).

Supreme International LLC dba Supreme Maritime Services, 1021 H Street, NE., Washington, DC 20002. Officers: Jacquelyn A. Roberson, Gen. Manager (Qualifying Individual), Thomas A. Tanimowo, President.

Global Ocean and Air Cargo Services Corp., dba Global Shipping Services, 1808 Woodlawn Drive, Ste. S, Baltimore, MD 21207. Officers: Kebede Tadesse, President (Qualifying Individual), Meskerem Bogale, Director.

Adora International, LLC dba Adora, 16813 FM 1485, Conroe, TX 77306, Officer: Nancy E. Catchings, Member (Qualifying Individual).

Philbox Express, Inc., 500 Alakawa St., #120, Honolulu, HI 96817. Officers: Maria Elisa Estrada, Manager, Leandro Estrada, President (Qualifying Individuals).

Futura Logistics Corp., 6500 NW 72nd Ave., Miami, FL 33166. Officer: Rodolfo Perez, President (Qualifying Individual).

Bekins A-1 Movers, Inc., 3 S. 140 Barkley, Warrenville, IL 60555. Officers: Kenneth S. Ogden, Vice President (Qualifying Individual), Terrence G. Kostoff, President.

International Cargo Logistics, LLC, 2416 S 11th Street, Philadelphia, PA 19148. Officers: Frank Buono, Managing Member, (Qualifying Individual), Vincent Buono, Owner.

Ocean Freight Forwarder—Ocean Transportation Intermediary Applicants

Amobelge Shipping Limited Liability Company, 934 Broadway, Bayonne, NJ 07002. Officer: Alice M. Smerda, Member (Qualifying Individual).

Highlights Express International, LLC, 4274 Exeter Drive, Dumfries, VA 22025, Officers: James So Yu, Member (Qualifying Individual), Wilheimina T. Yu, Member.

Barcol International Corporation, 6952 NW 51st, Miami, FL 33168. Officers: Jun Salvat, President (Qualifying Individual), Carmen S. Salvat, Vice President.

Ecuamerica International, Inc., 5737 Benjamin Center Drive, Tampa, FL 33634. Officers: Susana M. Crecchiolo, Vice President, (Qualifying Individual), Susana de la Llana, President.

FM Shipping, LLC, 14482 Beach Blvd., Westminster, CA 92683. Officer: Ryan A. Mashaqi, President (Qualifying Individual).

CMX Global Freight Services, Inc., 5353 W. Imperial Hwy., #300, Los Angeles, CA 90045. Officers: Charles W. Dobeck, President (Qualifying Individual), Judith Dobeck, Treasurer.

Cargo Connections NC, LLC dba Transgroup International, 4119-G Rose Lake Drive, Charlotte, NC 28217. Officer: Anita Sanders, Managing Member (Qualifying Individual).

Tanga S. FitzGibbon,
Alternate Federal Register Liaison Officer.

[FR Doc. E8-31160 Filed 12-30-08; 8:45 am]

BILLING CODE 6730-01-P